NUCLEAR REGULATORY COMMISSION

[NRC-2014-0039]

10 CFR Chapter I

Unified Agenda of Federal Regulatory and Deregulatory Actions

AGENCY: Nuclear Regulatory Commission.

ACTION: Semiannual regulatory agenda.

SUMMARY: The U.S. Nuclear Regulatory Commission (NRC) is publishing its semiannual regulatory agenda (the Agenda) in accordance with Public Law 96-354, “The Regulatory Flexibility Act,” and Executive Order 12866, “Regulatory Planning and Review.” The Agenda is a compilation of all rules on which the NRC has recently completed action or has proposed or is considering action. This issuance of the NRC's Agenda contains 60 rulemaking activities: 3 are Economically Significant; 11 represent Other Significant agency priorities; 45 are Substantive, Nonsignificant rulemaking activities; and one is an Administrative rulemaking activity. This issuance updates any action occurring on rules since publication of the last semiannual regulatory agenda on June 13, 2014 (79 FR 34204). The NRC is requesting comment on its rulemaking activities as identified in this Agenda. The complete Agenda will be available online at www.reginfo.gov, in a format that offers users enhanced ability to obtain information from the Agenda database.

DATES: Submit comments on this agenda by January 21, 2015.

ADDRESSES: Submit comments on any rule in the Agenda by the date and methods specified in the proposed rule notice. Comments received on rules for which the comment period has closed will be considered if it is practical to do so, but assurance of consideration cannot be given except as to comments received on or before the closure dates specified in the proposed rule. You may submit comments on this Agenda through the Federal Rulemaking Web site by going to http://www.regulations.gov and searching for Docket ID NRC-2014-0039. Address questions about NRC dockets to Carol Gallagher; telephone: 301-287-3422; email: Carol.Gallagher@nrc.gov. For technical questions on any rule listed in the Agenda, contact the individual listed under the heading “Agency Contact” for that rule.

For additional direction on obtaining information and submitting comments, see “Obtaining Information and Submitting Comments” in the SUPPLEMENTARY INFORMATION section of this document.

FOR FURTHER INFORMATION CONTACT: Cindy Bladey, Office of Administration, U.S. Nuclear Regulatory Commission, Washington, DC 20555-0001, telephone: 301-287-0949; email: Cindy.Bladey@nrc.gov. Persons outside the Washington, DC, metropolitan area may call, toll-free: 1-800-368-5642. For further information on the substantive content of any rule listed in the Agenda, contact the individual listed under the heading “Agency Contact” for that rule.

SUPPLEMENTARY INFORMATION:

Obtaining Information and Submitting Comments

A. Obtaining Information

Please refer to Docket ID NRC-2014-0039 when contacting the NRC about the availability of information for this document. You may obtain publically-available information related to this document by any of the following methods:

• Federal Rulemaking Web site: Go to http://www.regulations.gov and search for Docket ID NRC-2014-0039.

• NRC's Public Web site: Go to http://www.nrc.gov/reading-rm/doc-collections/rulemaking-ruleforum/unified-agenda.html and select fall 2014.

• NRC's Public Document Room: You may examine and purchase copies of public documents at the NRC's PDR, Room O1-F21, One White Flint North, 11555 Rockville Pike, Rockville, Maryland 20852.

B. Submitting Comments

Please include Docket ID NRC-2014-0039 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The information contained in this semiannual publication is updated to reflect any action that has occurred on rules since publication of the last NRC Agenda on June 13, 2014 (79 FR 34204). Within each group, the rules are ordered according to the Regulation Identifier Number (RIN).

The information in this Agenda has been updated through September 18, 2014. The date for the next scheduled action under the heading “Timetable” is the date the rule is scheduled to be published in the Federal Register. The date is considered tentative and is not binding on the Commission or its staff. The Agenda is intended to provide the public early notice and opportunity to participate in the NRC rulemaking process. However, the NRC may consider or act on any rulemaking even though it is not included in the Agenda.

The NRC Agenda lists all open rulemaking actions. Three rules impact small entities.

Common Prioritization of Rulemaking

The NRC has a process for developing rulemaking budget estimates and determining the relative priorities of rulemaking projects during budget formulation. This process produces a “Common Prioritization of Rulemaking” (CPR). The NRC adds new rules and evaluates rule priorities annually. The CPR process considers four factors and assigns a score to each factor. Those factors include (1) support for the NRC's Strategic Plan goals; (2) support for the Strategic Plan organizational excellence objectives; (3) a governmental factor representing interest to the NRC, Congress, or other governmental bodies; and (4) an external factor representing interest to members of the public, non-governmental organizations, the nuclear industry, vendors, and suppliers.

The NRC's fall Agenda contains its annual regulatory plan, which includes a statement of the major rules that the Commission expects to publish in the coming fiscal year (FY) and a description of the other significant regulatory priorities from the CPR that the Commission expects to work on during the coming FY and beyond.

The NRC has received comments from the Nuclear Energy Institute (NEI) with several recommendations for improving the NRC's rulemaking prioritization process and assessing the cumulative impact of rulemaking activities on each regulated community. The NRC is considering these comments and will respond in a future Agenda.

Section 610 Periodic Reviews Under the Regulatory Flexibility Act

Section 610 of the Regulatory Flexibility Act (RFA) requires agencies to conduct a review within 10 years of promulgation of those regulations that have or will have a significant economic impact on a substantial number of small entities. The NRC undertakes these reviews to decide whether the rules should be unchanged, amended, or withdrawn. At this time, the NRC does not have any rules that have a significant economic impact on a substantial number of small entities; therefore, the NRC has not included any RFA Section 610 periodic reviews in this edition of the Agenda. A complete listing of NRC regulations that impact small entities and related Small Entity Compliance Guides will be available from the NRC's Web site at http://www.nrc.gov/about-nrc/regulatory/rulemaking/flexibility-act/small-entities.html.

Dated at Rockville, Maryland, this 18th day of September 2014.
For the Nuclear Regulatory Commission.
Cindy Bladey,
Chief, Rules, Announcements, and Directives Branch, Division of Administrative Services, Office of Administration.

Nuclear Regulatory Commission—Proposed Rule Stage
Sequence No. | Title | Regulation Identifier No.
553 | Revision of Fee Schedules: Fee Recovery for FY 2015 [NRC-2014-0200] (Reg Plan Seq No. 159) | 3150-AJ44
References in boldface appear in The Regulatory Plan in part II of this issue of the Federal Register.

Nuclear Regulatory Commission—Long-Term Actions
Sequence No. | Title | Regulation Identifier No.
554 | Controlling the Disposition of Solid Materials [NRC-1999-0002] | 3150-AH18
555 | Variable Annual Fee Structure for Small Modular Power Reactors [NRC-2008-0664] | 3150-AI54

Nuclear Regulatory Commission—Completed Actions
Sequence No. | Title | Regulation Identifier No.
556 | Revision of Fee Schedules: Fee Recovery for FY 2014 [NRC-2013-0276] | 3150-AJ32

NUCLEAR REGULATORY COMMISSION (NRC)

Proposed Rule Stage

553. • Revision of Fee Schedules: Fee Recovery for FY 2015 [NRC-2014-0200]

Regulatory Plan: This entry is Seq. No. 159 in part II of this issue of the Federal Register.

RIN: 3150-AJ44

NUCLEAR REGULATORY COMMISSION (NRC)

Long-Term Actions

554. Controlling the Disposition of Solid Materials [NRC-1999-0002]

Legal Authority: 42 U.S.C. 2201; 42 U.S.C. 5841

Abstract: The NRC staff provided a draft proposed rule package on Controlling the Disposition of Solid Materials to the Commission on March 31, 2005, which the Commission disapproved (ADAMS Accession Number: ML051520285). The rulemaking package included a summary of stakeholder comments (NUREG/CR-6682), Supplement 1 (ADAMS Accession Number: ML003754410). The Commission's decision was based on the fact that the Agency is currently faced with several high priority and complex tasks, that the current approach to review specific cases on an individual basis is fully protective of public health and safety, and that the immediate need for this rule has changed due to the shift in timing for reactor decommissioning. The Commission has deferred action on this rulemaking.

Timetable:

Action | Date | FR Cite
ANPRM | To Be Determined

Regulatory Flexibility Analysis Required: Yes.

Agency Contact: Solomon Sahle, Nuclear Regulatory Commission, Office of Federal and State Materials and Environmental Management Programs, Washington, DC 20555-0001, Phone: 301 415-3781, Email: solomon.sahle@nrc.gov.

RIN: 3150-AH18

555. Variable Annual Fee Structure for Small Modular Power Reactors [NRC-2008-0664]

Legal Authority: 42 U.S.C. 2201; 42 U.S.C. 5841

Abstract: The advanced notice of proposed rulemaking (ANPRM) was published in the Federal Register on March 25, 2009 (74 FR 12735), seeking comments from the public on a possible variable fee structure for part 171 annual fees for power reactors based on licensed power limits. The comment period ended on June 8, 2009, and the NRC received 16 public comments. The Commission approved the staff's recommendation to establish an NRC workgroup to analyze suggested methodologies for a variable annual fee structure for power reactors in SECY-09-0137 dated October 13, 2009. On February 7, 2011, the Office of the Chief Financial Officer (OCFO) sent a memorandum to the Commission (ADAMS Accession No. ML110380251) responding to SECY-09-0137.

Timetable:

Action | Date | FR Cite
ANPRM | 03/25/09 | 74 FR 12735
ANPRM Comment Period End | 06/08/09 |
NPRM | 11/00/15 |

Regulatory Flexibility Analysis Required: Yes.

Agency Contact: Arlette P. Howard, Nuclear Regulatory Commission, Office of the Chief Financial Officer, Washington, DC 20555-0001, Phone: 301 415-1481, Email: arlette.howard@nrc.gov.

RIN: 3150-AI54

NUCLEAR REGULATORY COMMISSION (NRC)

Completed Actions

556. Revision of Fee Schedules: Fee Recovery for FY 2014 [NRC-2013-0276]

Legal Authority: 42 U.S.C. 2201; 42 U.S.C. 5841

Abstract: The final rule amends the Commission's licensing, inspection, and annual fees charged to its applicants and licensees. These amendments implement the Omnibus Budget Reconciliation Act of 1990 (OBRA-90) as amended, which requires that the NRC recover approximately 90 percent of its budget authority in Fiscal Year (FY) 2014, less the amounts appropriated from the Waste Incidental to Reprocessing, and generic homeland security activities.

Completed:

Reason | Date | FR Cite
NPRM | 04/14/14 | 79 FR 21036
Final Rule | 06/30/14 | 79 FR 37124
Final Rule Effective | 08/29/14 |

Regulatory Flexibility Analysis Required: Yes.

Agency Contact: Arlette P. Howard, Phone: 301 415-1481, Email: arlette.howard@nrc.gov.

RIN: 3150-AJ32

[FR Doc. 2014-28992 Filed 12-19-14; 8:45 am]

BILLING CODE 7590-01-P